DEPARTMENT OF TRANSPORTATION

Office of the Secretary

14 CFR Part 382

[Docket No. DOT-OST-2022-0144]

RIN 2105-AF14

Ensuring Safe Accommodations for Air Travelers With Disabilities Using Wheelchairs

AGENCY: Office of the Secretary of Transportation (OST), U.S. Department of Transportation.

ACTION: Notification of enforcement discretion.

SUMMARY: This document announces that the U.S. Department of Transportation (DOT) will not take enforcement action against regulated entities before August 1, 2025, for failing to comply with the new or revised requirements contained in the final rule on “Ensuring Safe Accommodations for Air Travelers With Disabilities Using Wheelchairs” (Wheelchair Rule). This enforcement discretion does not apply to violations of DOT's regulations regarding the treatment of air travelers with disabilities that would also have been violations prior to the issuance of the Wheelchair Rule.

DATES: As of June 10, 2025, enforcement of the amendments enacted in the final rule published December 17, 2024, at 89 FR 102398, is delayed until August 1, 2025.

ADDRESSES: This notification of enforcement discretion, the notice of proposed rulemaking (NPRM), all comments received, the final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

FOR FURTHER INFORMATION CONTACT: Tori Ford, Vinh Nguyen, Robert Gorman, or Blane Workie, Office of Aviation Consumer Protection, U.S. Department of Transportation, 1200 New Jersey Ave. SE, Washington, DC 20590, 202-366-9342 (phone), 202-366-7152 (fax), victoria.ford@dot.gov, vinh.nguyen@dot.gov, robert.gorman@dot.gov, or blane.workie@dot.gov (email).

SUPPLEMENTARY INFORMATION: On December 17, 2024, DOT issued a final rule on “Ensuring Safe Accommodations for Air Travelers With Disabilities Using Wheelchairs” (Wheelchair Rule). See 89 FR 102398. The final rule, which included certain provisions required by the FAA Reauthorization Act of 2024 (2024 FAA Act),¹ expanded existing airline obligations in 14 CFR part 382 regarding the treatment of air travelers with disabilities. More specifically, the final rule established new requirements in various areas such as training for airline personnel and contractors, assistance to passengers who use wheelchairs in embarking and disembarking from aircraft and moving within the terminal, and airlines' obligation should wheelchairs or scooters be mishandled. The final rule became effective on January 16, 2025; however, individual requirements in the final rule have varying implementation times, ranging from January 16, 2025, to June 17, 2026, for training requirements.

¹ The FAA Reauthorization Act of 2024, Public Law 118-63 (May 16, 2024).

DOT previously announced that it would exercise its enforcement discretion and not enforce the Wheelchair Rule until March 20, 2025. See 90 FR 9953 (Feb. 20, 2025). DOT is now providing notice that it will continue to exercise its enforcement discretion and not enforce the Wheelchair Rule before August 1, 2025, to allow additional time for the officials appointed or designated by the President to review the Wheelchair Rule to ensure that it is consistent with the law, including the requirements of the 2024 FAA Act, and Administration policies, and to consider the issues raised by a lawsuit filed recently to challenge certain provisions of the Wheelchair Rule.² This notification of enforcement discretion pertains only to the new or revised requirements imposed by the Wheelchair Rule. It does not apply to violations of 14 CFR part 382 that would also have been violations prior to the issuance of the Wheelchair Rule.

² Airlines for America, et al. v. Dep't of Transp., No. 25-60071 (5th Cir.).

Issued in Washington, DC, under authority delegated in 49 CFR 1.27(a):
Gregory D. Cote,
Acting General Counsel.

[FR Doc. 2025-10250 Filed 6-9-25; 8:45 am]

BILLING CODE 4910-9X-P